DEPARTMENT OF THE INTERIOR

Bureau of Land Management

DEPARTMENT OF AGRICULTURE

Forest Service

[WO-230-04-1150-PG]

Joint Counterpart Endangered Species Act Section 7 Consultation Regulations; Bureau of Land Management and Forest Service Alternative Consultation Agreements With U.S. Fish and Wildlife Service and National Oceanic and Atmospheric Administration Fisheries

AGENCY: Bureau of Land Management, Interior. Forest Service, Agriculture.

ACTION: Notice of availability.

SUMMARY: The U.S. Fish and Wildlife Service (FWS) and National Oceanic and Atmospheric Administration Fisheries (NOAA Fisheries) (referred to as the Services), the Bureau of Land Management (BLM) and Forest Service (FS) have approved Alternative Consultation Agreements pursuant to the joint counterpart regulations for consultation under section 7 of the Endangered Species Act (ESA) to streamline consultation on proposed projects that support the National Fire Plan (NFP).

DATES: The BLM and FS Alternative Consultation Agreements with U.S. Fish and Wildlife Service and National Marine Fisheries Service are available on the BLM and FS Web sites.

ADDRESSES: Information on the Alternative Consultation Agreements is available electronically through the Internet sites (http://www.blm.gov or http://www.fs.fed.us. ), or from the BLM, 1849 C Street, NW., LSB-204, Washington, DC 20240 or from the FS, Mail Stop 1121, 1400 Independence Avenue, Washington, DC 20250.

FOR FURTHER INFORMATION CONTACT: Peggy Olwell, Bureau of Land Management, Endangered Species Program Lead, 202-452-7764, or peggy_olwell@blm.gov or Marc Bosch, U.S. Forest Service, Endangered Species Program Leader, 202-205-1220, or mbosch@fs.fed.us.

SUPPLEMENTARY INFORMATION: The counterpart regulations, authorized by 50 CFR 402.04, complement the consultation process by providing an alternative process for completing section 7 consultation for projects that authorize, fund, or carry out actions that support the NFP. The Counterpart Regulations eliminate the need to conduct informal consultations and obtain written concurrence from the Services for those NFP actions that the BLM or FS determines are “not likely to adversely affect” (NLAA) listed species or designated critical habitat.

The final rule for the counterpart regulations was published in the Federal Register on December 8, 2003, and became effective on January 7, 2004. Implementation of the counterpart regulations requires BLM and FS to develop and sign an Alternative Consultation Agreement (ACA) with the Services, and to jointly develop a training program, based on the needs of the agency. The BLM and the FS signed separate ACAs with the Services on March 3, 2004. The interagency training program is being developed by BLM, FS, FWS, and NOAA and will be available for agency staff by May, 2004.

The regulations require that the ACA and related oversight or monitoring reports be made available to the public through a Federal Register notice of availability. The ACA for the Bureau of Land Management is available on BLM's Web site at: http://www.blm.gov/nhp/text/index.html. The Forest Service ACA is available on the Forest Service's Web site at http://www.fs.fed.us.

Dated: April 8, 2004.
Jim Gladen,
Director, Watershed, Fisheries and Wildlife Staff, USDA Forest Service.

Dated: April 21, 2004.
Thomas H. Dyer,
Deputy Assistant Director, Renewable Resources and Planning, Bureau of Land Management.

[FR Doc. 04-11730 Filed 5-24-04; 8:45 am]

BILLING CODE 4310-84-P